DEPARTMENT OF COMMERCE

National Oceanic and Atmospheric Administration

[I.D. 092706B]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 135th meeting to consider and take actions on fishery management issues in the Western Pacific Region.

DATES: The 135th Council meeting and public hearings will be held on October 16 - 19, 2006. For specific times and the agenda, see SUPPLEMENTARY INFORMATION.

ADDRESSES: The 135th Council meeting and public hearings will be held at the Ala Moana Hotel, 410 Atkinson Drive, Honolulu, HI 96814-4722; telephone: (808) 955-4811.

Council address: Western Pacific Fishery Management Council,1164 Bishop Street, Suite 1400, Honolulu, HI.

FOR FURTHER INFORMATION CONTACT: Kitty M. Simonds, Executive Director; telephone: (808) 522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, October 16, 2006

8 a.m. to 11 a.m. - Precious Corals & Crustaceans, Bottomfish, Ecosystems & Habitat Standing Committees

11 a.m. to 12 noon - Enforcement/VMS Standing Committee

1:30 p.m. to 3:30 p.m. - Pelagics & International Standing Committee

3:30 p.m. to 4:30 p.m. - Fishery Rights of Indigenous People Standing Committee

4:30 p.m. to 6:30 p.m. - Program Planning & Executive/Budget Standing Committee

The agenda during the full Council meeting will include the items listed below.

Schedule and Agenda for Council Meeting

9 a.m. to 5 p.m., Tuesday, October 17, 2006

1. Presentation to Hawaii Archipelago Ecosystem Poster Contest Winners

2. Introductions

3. Approval of Agenda

4. Approval of 133rd and 134th Meeting Minutes

5. Island Reports

A. American Samoa

B. Guam

C. Hawaii

D. Commonwealth of the Northern Marianas Islands

6. Agency Reports

A. National Marine Fisheries Service

1. Pacific Islands Regional Office

2. Pacific Islands Fisheries Science Center

B. United States Fish and Wildlife Service (USFWS)

C. NOAA General Counsel

D. Department of State

Guest Speaker

7. Enforcement/Vessel Monitoring Systems(VMS)

A. Island Agency Enforcement Reports

B. United States Coast Guard Report

C. NMFS Office for Law Enforcement Report

D. Status of Violations

E. Automatic Identification System Pilot Project Report

F. Northwestern Hawaiian Islands and Hawaii Longline Vessel Monitoring System Issues

G. Main Hawaiian Islands Bottomfish Regulations Enforcement

H. Standing Committee Recommendations

I. Public Comment

J. Council Discussion and Action

8. Hawaii Archipelago

A. Northwestern Hawaiian Islands (NWHI) National Marine Monument (ACTION ITEM)

B. Addition of Heterocarpus to the Fishery Management Plan (FMP) (ACTION ITEM)

C. 2006 NWHI Lobster Research Update

D. Black Coral Workshop Report

E. Bottomfish Stock Assessment

F. Status of Bottomfish Stocks Report

G. Fishery Independent Research Workshop

H. Hawaii Bottomfish Research, Monitoring, and Compliance Plan

I. Plan Team Reports

J. Scientific and Statistical Committee (SSC) Recommendations

K. Standing Committee Recommendations

L. Public Hearing

M. Council Discussion and Action

9 a.m. to 5 p.m., Wednesday, October 18, 2006

9. Marianas Archipelago

A. Guam Bottomfish Assessment

B. Guam Offshore Project

C. Standing Committee Recommendations

D. Public Comment

E. Council Discussion and Action

10. American Samoa Archipelago

A. Status of American Samoa Tuna Canneries

B. Fisheries Development in American Samoa

C. Standing Committee Recommendations

D. Public Comment

E. Council Discussion and Action

11. Fishery Rights of Indigenous People

A. Hoohanohano I Na Kupuna Puwalu Report

B. Communities Program and Community Demonstration Project Program Update

C. Request for Special Hawaii Longline Permit

D. American Samoa Village-based Marine Protected Areas (MPAs)

E. Guam Community Management Projects

1. Guam Fishermen's Co-Op Longline Vessel Project

2. Guam Voluntary Data Collection Program Project

F. Northern Marianas Islands (NMI) Community Management Projects

1. NMI Community College Project

2. NMI Fishermen's Co-op Project

3. Northern Islands Mayor's Office Project

4. Rota Traditional Fisheries Project

G. Standing Committee Recommendations

H. Public Comment

I. Council Discussion and Action

12. Protected Species

A. Update on Protected Species Issues

B. NMFS, Pacific Islands Regional Office (PIRO) Protected Resources Program

1. Status of American Samoa Re-consultation

2. Status of Federal Responsibility for State of Hawaii's Turtle Management

3. Negligible Impact Determination on Humpback Whales Update

4. Species of Concern Workshop Report

C. NMFS, Pacific Islands Fisheries Science Center (PIFSC) Protected Resources Program

1. Cetacean Survey Update

2. Monk Seal Fatty Acid Study

D. SSC Recommendations

E. Public Comment

F. Council Discussion and Action

13. Pelagic & International Fisheries

A. Swordfish Closure (ACTION ITEM)

B. Shark Management (ACTION ITEM)

C. American Samoa Fishery Aggregation Devices (ACTION ITEM)

D. American Samoa and Hawaii Longline Reports

American Samoa Limited Entry Permit Request

E. Pelagic Stock Assessments

F. Highly Migratory Species Quotas and Data

G. Bigeye Tuna Quota in the Eastern Pacific Ocean

H. PIFSC International Fisheries Capabilities

I. International Fisheries Management

1. Inter-American Tropical Tuna Commission Annual Meeting

2. Western and Central Pacific Fisheries Commission

3. Council South Pacific Albacore Workshop

J. Shark Bycatch in Longline Fisheries

K. SSC Recommendations

L. Standing Committee Recommendations

M. Public Hearing

N. Council Discussion and Action

9 a.m. to 5 p.m., Thursday, October 19, 2006

14. Program Planning

A. Update on Legislation

B. Magnuson Act Reauthorization

C. National System of MPAs Draft Framework

D. Five-year Program Document

E. Status of Fishery Management Actions

F. Education and Outreach Report

G. Report on State Disaster Relief Program

H. Standing Committee Recommendations

I. Public Comment

J. Council Discussion and Action

15. Administrative Matters & Budget

A. Financial Reports

B. Administrative Reports

C. Meetings and Workshops

D. Statement of Organization Practices and Procedures (SOPP) Changes

E. Council Family Changes

Advisory Panel Appointments

F. Standing Committee Recommendations

G. Public Comment

H. Council Discussion and Action

16. Other Business

A. Election of Officers

B. Next Meeting

BACKGROUND INFORMATION:

1. Swordfish closure (ACTION ITEM)

In 2006, the Hawaii swordfish fishery reached its 'hard' limit of loggerhead turtle interactions (17) compared to 12 interactions in 2005. Under the Pelagics Fisheries Management Plan (PFMP), there is currently a seven day 'grace' period following the announcement of the fishery closure, during which time vessels must cease fishing for swordfish. However, there was concern that additional turtles may be caught during this grace period and thus exceed the cap of 17 interactions authorized for this fishery under Endangered Species Act Biological Opinion issued by NMFS. Consequently, the swordfish fishery was closed by the NMFS Pacific Islands Region's Regional Administrator following the catch of the 17th loggerhead turtle through and emergency rule. However, an emergency rule may only last for a maximum of one year and the Council recognized that a mechanism was needed under the PFMP to effect an immediate closure should the loggerhead or leatherback cap be reached in a given year. Accordingly, at its 133rd meeting the Council recommended the adoption of a preferred alternative for the Hawaii swordfish longline fishery that would modify existing regulations to close the fishery immediately upon reaching either turtle cap. At the 135th meeting, the Council will review the relevant information and any recommendations from its Scientific and Statistical Committee and may take final action on this issue.

2. Shark management (ACTION ITEM)

In 1999, the Council recommended a suite of measures under its Pelagics Fisheries Management Plan (PFMP) to manage shark catches by both pelagic and demersal longline vessels in the Western Pacific Region. These included a fleet wide quota for blues sharks, retained for finning, a trip limit on landings of non-blue sharks and a definition and prohibition of demersal longlining to catch sharks contained inn the pelagic management unit. However subsequent events made the majority of measures in the draft amendment (amendment 9) to the PFMP largely redundant. However, the Council has continued to be concerned about non-blue shark catches and the implementation of a trip limit for these species, mainly thresher and mako sharks. Moreover the Council has also deliberated on the impacts of commercial tour operators offering shark viewing tours to the public, and whether these activities fall within Council jurisdiction. Potential options include but are not limited to: (1) Conducting research on shark movement and behavior and population numbers in and around the North Shore of Oahu; (2) Recommending the State of Hawaii establish a moratorium on any new shark tour operations; (3) Establishing federal regulations for shark tour operations such as prohibiting or limiting the amount of chum that may be used, requiring shark tour operations to move further offshore, limiting the number of shark tour operations; and (4) Banning on shark viewing operations in federal waters. At its 135th meeting, the Council may therefore decide to take initial action on a revised trip limit for non-blue sharks for the Hawaii longline fishery, and on whether it should take any action on shark viewing operations in Hawaii.

3. American Samoa fish aggregating devices (FADs) (ACTION ITEM)

The Council has heard in the past that despite the implantation of 50 nm area closures to pelagic fishing vessels of > 50ft, troll vessels fishing around Tutuila (the main island of American Samoa) wanted additional protection from competition with small-scale alia catamaran longliners. These small-scale outboard powered longline vessels fish in the same coastal waters around Tutuila as the troll fishermen, and fish within the proximity of FADs to improve their catches. Troll fishermen have expressed concerns that troll fishing catch per unit of effort (CPUE) around Tutuila have declined since the advent of the longline fishery. At its June 2005, meeting the Council requested staff to look at the potential for implementing 5 nm longline exclusion zones around FADs deployed around. Subsequently, at its 133rd meeting in American Samoa, the Council directed staff to draft a range of preliminary alternatives and analyses regarding longline area closures around American Samoa's FADs. Potential options include but are not limited to: (1) implement a 12 nm closure to all longline fishing around Tutuila, (2) 5 nm closures around all FADs deployed around American Samoa, (3) 5 nm closure around the two FADs closest to Pago Pago, and (4) deploy new FAD or FADs specifically for trollers. At its 135th meeting, the Council may therefore decide to take initial action on managing longline fishing around FADs in American Samoa.

4. Addition of Heterocarpus to the FMP

A fishery for deepwater shrimp (Heterocarpus laevigatus and Heterocarpus ensifer)occurs in waters off of Hawaii and other areas of the Pacific. The fishery in Hawaii is sporadic with vessels fishing for a couple of years with a five to seven year hiatus in between. Data is currently captured by the State of Hawaii through its Commercial Marine Landings Catch Reports. The deepwater shrimp, however, are not currently managed under any Fishery Management Plan (FMP). At its 135th Meeting, the Council may consider taking initial action to incorporate deepwater shrimp into their Crustaceans Fishery Management Plan.

5. NWHI Monument

On June 15, 2006, President George W. Bush issued Presidential Proclamation No. 8031 establishing the Northwestern Hawaiian Islands Marine National Monument (Monument). The proclamation set apart and reserved the Northwestern Hawaiian Islands for the purpose of protecting the historic objects, landmarks, prehistoric structures and other objects of historic or scientific interest that are situated upon lands owned and controlled by the federal Government of the United States. In establishing the NWHI monument, Proclamation No. 8031 assigns primary management responsibility of marine areas to the Secretary of Commerce, through NOAA in consultation with the Secretary of the Interior. The Proclamation also directed the Secretaries to promulgate regulations to prohibit access to the Monument, restrict fishing in Ecological Reserves and Special Preservation Areas, establish annual catch limits for bottomfish and pelagic species, prohibit anchoring, and require VMS on all vessels, among other management measures. Regulations implementing these provisions were published in the Federal Register on August 29, 2006.

To date, NOAA has not conducted any environmental review to assess the biological or social impacts of the monument designation. However, NWHI fishermen affected by the Monument regulations have expressed concern that while they allow commercial fishing for bottomfish and pelagic species to continue for five years, the prohibition on fishing within Ecological Reserves and Special Preservation Areas, combined with the no-anchoring provision, will make it virtually impossible to catch bottomfish fish within the Monument. Currently, the impacts of these provisions primarily affect fishers in NWHI Hoomalu zone as the two Ecological Reserves, and seven of the nine Special Preservation Areas are located in this zone. However, among the individual Hoomalu Zone fishers, the restrictions affect catches and revenues differently as each fisher have different fishing areas within the zone.

In addition, Monument regulations do not allow for commercial pelagic troll and handline fishermen licensed by the State of Hawaii to continue despite their long history of fishing in the area. However, these fishermen have expressed interest in continuing to fish commercially for pelagic species seaward of the outer boundary of the Monument. These fishermen have also expressed interest in retaining uku (Aprion virescens), a bottomfish management unit species which is incidentally caught when trolling for ono (Acanthocybium solandri) and other pelagic species around NWHI banks. Currently, federal regulations prohibit harvesting bottomfish management unit species in the NWHI without a permit issued by the PIRO Regional Administrator, making uku a regulatory discard for fishermen who do not have a federal NWHI bottomfish permit.

At its 135th Meeting, the Council may consider taking action to alleviate these “unintended consequences” of the Monument designation by considering options to alter the zoning structure of the NWHI permit areas and address fishing opportunities for Hawaii's troll and handline fishermen seaward of the outer boundary of the Monument, and eliminate regulatory discarding of uku by this fishery.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 28, 2006.
Tracey L. Thompson,
Acting Director, Office of Sustainable Fisheries, National Marine Fisheries Service.

[FR Doc. E6-16264 Filed 10-2-06; 8:45 am]

BILLING CODE 3510-22-S